DEPARTMENT OF LABOR

Office of the Secretary

Agency Information Collection Activities; Submission for OMB Review; Comment Request; Family and Medical Leave Act (FMLA) Wave 4 Surveys

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

Currently, the Department of Labor is soliciting comments concerning the collection of data about the Family and Medical Leave Act (FMLA) Wave 4 Surveys. A copy of the proposed Information Collection Request (ICR) can be obtained by contacting the office listed below in the addressee section of this notice.

DATES: Written comments must be submitted to the office listed in the addressee section below on or before December 27, 2016.

ADDRESSES: You may submit comments by either one of the following methods: Email: ChiefEvaluationOffice@dol.gov; Mail or Courier: Christina Yancey, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Christina Yancey by email at ChiefEvaluationOffice@dol.gov.

SUPPLEMENTARY INFORMATION:

I. Background: Enacted in 1993, the Family and Medical Leave Act (FMLA) guarantees eligible U.S. employees of covered employers the right to take unpaid leave to attend to their own medical issues or those of their family. The Act further allows for the continuation of employer-sponsored health insurance coverage during leave and reinstatement of the previous or an equivalent job upon return to work. To better understand the range of perspectives on FMLA, the Chief Evaluation Office of the U.S. Department of Labor (DOL) has commissioned the development and administration of two surveys to collect information about the need for and the experience with family and medical leave from employees' and employers' respective perspectives. This effort will build on previous information collection efforts, as the new surveys will update and expand on the evidence about FMLA use and leave-taking that has been generated by three prior “waves” of surveys (1995, 2000, and 2012).

This Federal Register Notice provides the opportunity to comment on two proposed data collection instruments that will be used to collect information on employee and employer perspectives on FMLA:

* Survey of Employees. The survey of employees on use of leave, need for leave, and their experience with FMLA-eligible leave is anticipated to occur in 2017 and 2018.

* Survey of Employers. The survey of employers on employee use of leave, and their experience managing FMLA leaves (for those covered by FMLA) is anticipated to occur in 2017 and 2018.

II. Desired Focus of Comments: Currently, the Department of Labor is soliciting comments concerning the above data collection for the FMLA Wave 4 Surveys. DOL is particularly interested in comments that do the following:

* Evaluate whether the proposed collection of information is necessary for the proper performance functions of the agency, including whether the information will have practical utility;

* evaluate the accuracy of the agency's burden estimate of the proposed information collection, including the validity of the methodology and assumptions;

* enhance the quality, utility, and clarity of the information to be collected; and

* minimize the burden of the collection of information on those who are to respond, including through the use of appropriate automated, electronic, mechanical, or other technological collection techniques or other forms of information technology—for example, permitting electronic submissions of responses.

III. Current Actions: At this time, the Department of Labor is requesting clearance for the implementation site visit protocols, the focus group protocols, and a survey.

Type of Review: New information collection request.

OMB Control Number: 1205-0NEW.

Affected Public: Individuals contacted to conduct the employee survey; Staff at employers contacted for the employer survey.

Estimated Total Burden Hours
Respondents | Estimated total respondents | Number of responses per respondent | Average burden time per response (minutes) | Estimated total burden (hours)
Employee Survey
Screeners (cellphone) | 21,500 | 1 | 1 | 358
Screeners (landline) | 5,091 | 1 | 3 | 255
Interviewee: Leave-taker | 1,778 | 1 | 18 | 533
Interviewee: Leave-needer
Site Visit
Round 1:
P3 Youth | 72 | 1 | 1 | 72
Round 2:
P3 Youth | 72 | 1 | 1 | 72
Partner Survey
Round 1:
P3 Administrators/Staff | 90 | 1 | .25 | 22.5
Round 2:
P3 Administrators/Staff | 90 | 1 | .25 | 22.5
Total | 594 |  |  | 526.5

Employee Survey

Sampled households/individuals: 26,591.

Respondents: 4,000.

Frequency of response: once.

Annual hour burden:

Screeners:

Cell-phone: 21,500 individuals; 1 minute each; 358 hours.

Landline: 5,091 households; 3 minutes each; 255 hours.

Extended interview:

Leave-taker interview: 1,778 respondents; 18 minutes each; 533 hours.

Leave-needer interview: 422 respondents; 18 minutes each; 127 hours.

Employed-only interview: 1,800 respondents; 10 minutes each; 300 hours.

Nonresponse follow-up: 500 respondents; 10 minutes each; 83 hours.

Total burden: 4,000 respondents; 1,656 hours.

Annualized hour burden: 1,656 hours; $25.62 per hour; ¹ $42,427.

¹ Hourly wage reflects the June 2016 (seasonally-adjusted) average hourly earnings for private nonfarm payrolls, as reported by the U.S. Department of Labor, Bureau of Labor Statistics, Table B-3. “Average hourly and weekly earnings of all employees on private nonfarm payrolls by industry sector, seasonally adjusted” (accessed from the following Web site as of September 26, 2016: http://www.bls.gov/news.release/empsit.t19.htm).

Comments submitted in response to this request will be summarized and/or included in the request for Office of Management and Budget approval of the information collection request; they will also become a matter of public record.

Dated: October 20, 2016.
Sharon Block,
Principal Deputy Assistant Secretary for Policy, U.S. Department of Labor.

[FR Doc. 2016-26084 Filed 10-27-16; 8:45 am]

BILLING CODE 4510-HX-P